DEPARTMENT OF HEALTH AND HUMAN SERVICES

Centers for Disease Control and Prevention

Subcommittee on Procedures Review, Advisory Board on Radiation and Worker Health (ABRWH), National Institute for Occupational Safety and Health (NIOSH)

In accordance with section 10(a)(2) of the Federal Advisory Committee Act (Pub. L. 92-463), the Centers for Disease Control and Prevention (CDC) announces the following meeting for the aforementioned subcommittee:

Time and Date: 9:30 a.m.-5 p.m., June 8, 2010.

Place: Cincinnati Airport Marriott, 2395 Progress Drive, Hebron, Kentucky 41018, Telephone: (859) 334-4611, Fax: (859) 334-4619.

Status: Open to the public, but without a public comment period. To access by conference call dial the following information: (866) 659-0537, Participant Pass Code 9933701.

Background: The ABRWH was established under the Energy Employees Occupational Illness Compensation Program Act of 2000 to advise the President on a variety of policy and technical functions required to implement and effectively manage the compensation program. Key functions of the ABRWH include providing advice on the development of probability of causation guidelines that have been promulgated by the Department of Health and Human Services (HHS) as a final rule; advice on methods of dose reconstruction which have also been promulgated by HHS as a final rule; advice on the scientific validity and quality of dose estimation and reconstruction efforts being performed for purposes of the compensation program; and advice on petitions to add classes of workers to the Special Exposure Cohort (SEC).

In December 2000, the President delegated responsibility for funding, staffing, and operating the ABRWH to HHS, which subsequently delegated this authority to CDC. NIOSH implements this responsibility for CDC. The charter was issued on August 3, 2001, renewed at appropriate intervals, and will expire on August 3, 2011.

Purpose: The ABRWH is charged with (a) Providing advice to the Secretary, HHS, on the development of guidelines under Executive Order 13179; (b) providing advice to the Secretary, HHS, on the scientific validity and quality of dose reconstruction efforts performed for this program; and (c) upon request by the Secretary, HHS, advising the Secretary on whether there is a class of employees at any Department of Energy facility who were exposed to radiation but for whom it is not feasible to estimate their radiation dose, and on whether there is a reasonable likelihood that such radiation doses may have endangered the health of members of this class. The Subcommittee on Procedures Review was established to aid the ABRWH in carrying out its duty to advise the Secretary, HHS, on dose reconstructions. The Subcommittee on Procedures Review is responsible for overseeing, tracking, and participating in the reviews of all procedures used in the dose reconstruction process by the NIOSH Division of Compensation Analysis and Support (DCAS) and its dose reconstruction contractor.

Matters to be Discussed: The agenda for the Subcommittee meeting includes: discussion of a draft prototype document for informing the public on completed Subcommittee procedure reviews; discussion of the following ORAU & OCAS procedures: PER-012 (“Evaluation of Highly Insoluble Plutonium Compounds”), OTIB-013 (“Special External Dose Reconstruction Considerations for Mallinckrodt Workers”), OTIB-014 (“Rocky Flats Internal Dosimetry Co-Worker Extension”), OTIB-019 (“Analysis of Coworker Bioassay Data for Internal Dose Assignment”), OTIB-0029 (“Internal Dosimetry Coworker Data for Y-12”), OTIB-0049 (“Estimating Doses for Plutonium Strongly Retained in the Lung”), OTIB-0047 (External Radiation Monitoring at the Y-12 Facility During the 1948-1949 Period”), OTIB-0047 (“Estimating Doses for Plutonium Strongly Retained in the Lung”), OTIB-0051 (“Effect of Threshold Energy and Angular Response of NTA Film on Missed Neutron Dose at the Oak Ridge Y-12 Facility”), OTIB-0054 (“Fission and Activation Product Assignment for Internal Dose-Related Gross Beta and Gross Gamma Analyses”), OTIB-0054 (“External Radiation Dose Estimates For Individuals Near the 1958 Criticality Accident at the Oak Ridge Y-12 Plant”), OTIB-0070 (“Dose Reconstruction During Residual Radioactivity Periods at Atomic Weapons Employer Facilities”), and TBD 6000 (“Site Profile for Atomic Weapons Employers that Worked Uranium and Thorium Metals”); and a continuation of the comment-resolution process for other dose reconstruction procedures under review by the Subcommittee.

The agenda is subject to change as priorities dictate.

This meeting is open to the public, but without a public comment period. In the event an individual wishes to provide comments, written comments may be submitted. Any written comments received will be provided at the meeting and should be submitted to the contact person below in advance of the meeting.

Contact Person for More Information: Theodore Katz, Executive Secretary, NIOSH, CDC, 1600 Clifton Road, Mailstop E-20, Atlanta, Georgia 30333, Telephone: (513) 533-6800, Toll Free: 1 (800) CDC-INFO, E-mail dcas@cdc.gov.

The Director, Management Analysis and Services Office, has been delegated the authority to sign Federal Register notices pertaining to announcements of meetings and other committee management activities, for both CDC and the Agency for Toxic Substances and Disease Registry.

Dated: May 14, 2010.
Elaine L. Baker,
Director, Management Analysis and Services Office, Centers for Disease Control and Prevention.

[FR Doc. 2010-12306 Filed 5-20-10; 8:45 am]

BILLING CODE 4163-18-P